DEPARTMENT OF TRANSPORTATION

National Highway Traffic Safety Administration

49 CFR Part 571

[Docket No. 00-7145; Notice 3]

RIN No. 2127-AH61

Federal Motor Vehicle Safety Standards; Head Impact Protection; Correction

AGENCY: National Highway Traffic Safety Administration, DOT.

ACTION: Correcting amendment.

SUMMARY: On February 27, 2004, the National Highway Traffic Safety Administration (NHTSA) published a final rule amending the upper interior impact requirements of the Federal motor vehicle safety standard on occupant protection in interior impact to increase the minimum separation distance between tested areas on vertical surfaces of a motor vehicle. The final rule also added targets for pillar-like structures that do not meet the definition of “pillar,” i.e., certain door frames and freestanding vertical seat belt mounting structures. The amendments adding the new targets necessitated changes to certain compliance test requirements, including the approach angles specified for certain target locations. The effective date of these amendments was August 25, 2004.

This document corrects several typographical errors in the amendatory language contained in the February 27, 2004 final rule.

DATES: These amendments are effective August 25, 2004.

FOR FURTHER INFORMATION CONTACT: The following persons at the NHTSA, 400 Seventh Street, SW., Washington, DC 20590.

For non-legal issues, you may call Dr. William Fan, Office of Crashworthiness Standards, at (202) 366-4922.

For legal issues, you may call George Feygin, Office of the Chief Counsel, at (202) 366-5834.

SUPPLEMENTARY INFORMATION: On February 27, 2004, NHTSA published a final rule (69 FR 9226) amending Federal Motor Vehicle Safety Standard 201 “Occupant protection in interior impact.” The amendments made two principal changes to the Standard. One of these changed the method used to determine the appropriate distance for excluding impacts on adjacent targets to prevent impact overlap. The second modified the Standard to add test targets to seat belt mounting structures and door frames for certain vehicle configurations. The addition of the new targets required adding new specifications for the new targets to the list of approach angles set forth in S8.13.4.

Further review of the February 27, 2004 final rule indicates that the amendatory instructions issued at that time were incomplete and did not properly describe the changes to the Standard. Those instructions failed to correctly specify that revisions were being made to S8.13.4 and the accompanying Table 1. In addition, the amendatory language failed to identify that revisions were being made to S8.13.4.2(b)(2) by indicating that revisions were being made to S8.13.4.2(b).

In FR Doc. 04-4277 published on February 27, 2004, (69 FR 9217) make the following correction:

PART 571—[CORRECTED]

On page 9226, in the second column, correct amendatory instruction 2 to read as follows:

2. Section 571.201 is amended by revising the definition of B-pillar in S3 and adding, in alphabetical order, definitions of B-pillar, Door frame, Other door frame, and Seat belt mounting structure to S3; by adding S6.3(e) and SB.13.4.1(e) through (h); revising the introductory text and Table 1 of S8.13.4, S8.13.4.2(b)(2), S8.14, and S10(a) through (b); and by adding S10.14, S10.15 and S10.16 to read as follows:

Issued: August 31, 2004.
Stephen R. Kratzke,
Associate Administrator for Rulemaking.

[FR Doc. 04-20261 Filed 9-7-04; 8:45 am]

BILLING CODE 4910-59-P